DEPARTMENT OF COMMERCE

Technology Administration

Proposed Information Collection; Comment Request; National Medal of Technology Nomination Applications

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before September 23, 2002.

ADDRESSES: Direct all written comments to Madeleine Clayton, Departmental Paperwork Clearance Officer, Department of Commerce, Room 6608, 14th and Constitution Avenue, NW., Washington, DC 20230 or via the Internet (mclayton@doc.gov).

FOR FURTHER INFORMATION CONTACT: Requests for additional information should be directed to the attention of Mildred Porter, Director, National Medal of Technology Program, Technology Administration, 1401 Constitution Avenue, NW., Room 4226, Washington, DC 20230. In addition, written comments may be sent via fax, (202) 501-8153, and e-mail to mporter@ta.doc.gov.

SUPPLEMENTARY INFORMATION

I. Abstract

This information collection is critical for the Nomination Evaluation Committee to determine nomination eligibility and merit for selection of the Nation's leading technological innovators honored by the President of the United States. The National Medal of Technology Nomination Application solicits nominations that recognize an individual's or company's extraordinary leadership and innovation in technological achievement. The information is needed in order to comply with Public Law 96-480 and Public Law 105-309. Comparable information is not available on a standardized basis.

II. Method of Collection

Nomination applications and instructions are electronically posted on the National Medal of Technology web site. The forms are being revised for electronic submission beginning with the 2003 applications.

III. Data

OMB Number: 0692-0001.

Form Number: None.

Type of Review: Regular submission.

Affected Public: Individuals or households; business or other for-profit organizations; not-for-profit institutions; Federal Government.

Estimated Number of Respondents: 102.

Estimated Time Per Response: 25 hours.

Estimated Total Annual Respondent Burden Hours: 2,550.

Estimated Total Annual Respondent Cost Burden: None.

IV. Requests for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarize and/or included in the request for OMB approval of this information collection; they will also become a matter of public record.

Dated: July 17, 2002.
Gwellnar Banks,
Management Analyst, Office of the Chief Information Officer.

[FR Doc. 02-18496 Filed 7-22-02; 8:45 am]

BILLING CODE 3510-18-P